DEPARTMENT OF HOUSING AND URBAN DEVELOPMENT

[Docket No. FR-4910-N-20]

Notice of Proposed Information Collection for Public Comment; Customer Service and Satisfaction Survey, Resident Assessment Subsystem (RASS)

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments due date: October 5, 2004.

ADDRESSES: Interested persons are invited to submit comments regarding this proposal. Comments should refer to the proposal by name/or OMB Control number and should be sent to: Sherry Forbear McCown, Reports Liaison Officer, Public and Indian Housing, Department of Housing and Urban Development, 451 7th Street, SW., Room 4116, Washington, DC 20410-5000.

FOR FURTHER INFORMATION CONTACT: Sherry Fobear McCown, (202) 708-0713, extension 7651, for copies of the proposed forms and other available documents. (This is not a toll-free number).

SUPPLEMENTARY INFORMATION: The Department will submit the proposed information collection to OMB for review, as required by the Paperwork Reduction Act of 1995 (44 U.S.C. chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This notice also lists the following information:

Title of Proposal: Customer Service and Satisfaction Survey, Resident Assessment Subsystem.

OMB Control Number: 2507-0001.

Description of the need for the information and proposed use: The Customer Service and Satisfaction Survey is the instrument that HUD uses to survey residents residing in assisted and insured housing. The survey assesses residents' satisfaction with housing services and living conditions. HUD conducts a Customer Service and Satisfaction survey of assisted and insured housing residents annually. A random sample of residents is taken within each public housing agency and surveyed on an annual basis in accordance with Public Housing Assessment System (PHAS) requirements and regulation. PHAs are required to announce the survey and follow-up on substandard scores. Approximately twenty percent of multifamily residents are surveyed annually from a stratified sample of selected properties. No implementation or follow-up is required for multifamily properties.

Agency form number, if applicable: Not applicable.

Members of affected public: Public housing agencies and multi-family owners.

Estimation of the total number of hours needed to prepare the information collection including number of respondents: 580,797 residents receive the survey, 3170 PHAs submit implementation and follow-up plans, HUD receives a total of 216,979 responses from residents and PHAs (total based on 37% response rate for survey); annual submission per resident respondents and PHAs; average hours for resident response is 15 minutes; average hours for PHA response is 5.45 hours; the total reporting burden is 64,021 hours.

Status of the proposed information collection: Extension of currently approved collection.

Authority: Section 3506 of the Paperwork Reduction Act of 1995, 44 U.S.C. chapter 35, as amended.

Dated: July 30, 2004.
Paula O. Blunt,
General Deputy Assistant Secretary for Public and Indian Housing.

[FR Doc. 04-17944 Filed 8-5-04; 8:45 am]

BILLING CODE 4210-33-M